DEPARTMENT OF THE INTERIOR

Bureau of Land Management

[NV-040-5101-ER-F851; N-79742; 8-08807]

Notice of Availability of the Final Environmental Impact Statement for the Kane Springs Valley Groundwater Development Project, Nevada

AGENCY: Lead Agency—Bureau of Land Management, Interior; Cooperating Agencies—U.S. Fish and Wildlife Service, Interior; State of Nevada Department of Wildlife; Moapa Valley Water District, Nevada.

ACTION: Notice of Availability.

SUMMARY: In accordance with the National Environmental Policy Act of 1969 (NEPA, 42 U.S.C. 4321 et seq.) the Bureau of Land Management (BLM) has prepared a Final Environmental Impact Statement (FEIS) that analyzes a proposed right-of-way for groundwater and conveyance facilities in Lincoln County. This notice initiates the public review process on the FEIS.

DATES: The Kane Springs Valley Groundwater Development Project FEIS will be available for review and comment for 30 days following the date the Environmental Protection Agency publishes their Notice of Availability in the Federal Register.

ADDRESSES: Submit written comments on the FEIS using any of the following methods:

• Mail: Penny Woods, Project Manager, P.O. Box 12000, Reno, NV 89520.

• Fax: 775-861-6689 (Attn: Penny Woods, Project Manager).

• E-mail: nvgwprojects@blm.gov.

FOR FURTHER INFORMATION CONTACT: Penny Woods, BLM Project Manager, P.O. Box 12000, Reno, NV 89520, telephone 775-861-6466, or e-mail: nvgwprojects@blm.gov with “Kane Springs Information Request” in the subject line.

SUPPLEMENTARY INFORMATION: The FEIS describes and analyzes a proposal for groundwater facilities in the Kane Springs Valley submitted by the Lincoln County Water District (LCWD). The FEIS addresses the proposal submitted by LCWD, an alternative alignment, and a no action alternative. Under the Proposed Action, the LCWD would develop and convey groundwater in Kane Springs Valley to private land for community development purposes in Coyote Springs Valley. The volume of water to be transported through the proposed facilities could be up to 5,000 acre-feet per year.

The proposed project would be located in unincorporated portions of southwestern Lincoln County, Nevada, and would consist of a 13.2 mile pipeline, seven production wells, water storage tanks, a 12.5 kV transmission line, and a fiber optic line.

On June 22, 2007, the BLM published the Notice of Availability for the Draft EIS for this project in the Federal Register. Nineteen comments were received from individuals, organizations, agencies and a tribal band. Specific comment responses are provided in the FEIS, and issues and concerns raised during the review are addressed in the FEIS.

Copies of the FEIS will be mailed to individuals, agencies, or companies who previously requested copies or who responded to the BLM on the Draft EIS. Copies of the FEIS are available on request from the BLM Nevada State Office, 1340 Financial Blvd., P.O. Box 12000, Reno, NV 89520, phone 775-861-6681 or e-mail to: nvgwprojects@blm.gov. You may request a hard copy or a computer disc (CD). The document will be available electronically at: http://www.blm.gov/nv/. Copies of the FEIS will be available for review at the following locations:

• Bureau of Land Management, Nevada State Office, 1340 Financial Blvd., Reno, Nevada.

• Bureau of Land Management, Ely Field Office, 702 North Industrial Way, Ely, Nevada.

All comment submittals to this FEIS must include the commenter's name and street address. Comments, including the names and street addresses of respondents, will be available for public review at the Nevada State Office during regular business hours (9 a.m. to 4:30 p.m., Monday through Friday except for Federal holidays). Before including your address, telephone number, e-mail address, or other personal identifying information in your comment, be advised that your entire comment, including your personal identifying information, may be made publicly available at any time. While you can ask in your comment to withhold from public review your personal identifying information, we cannot guarantee that we will be able to do so.

Ron Wenker,
Nevada State Director.

[FR Doc. E8-2231 Filed 2-7-08; 8:45 am]

BILLING CODE 4310-HC-P